DEPARTMENT OF COMMERCE

Foreign-Trade Zones Board

[Order No. 1781]

Reorganization of Foreign-Trade Zone 170 (Expansion of Service Area) under Alternative Site Framework; Clark County, Indiana

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, the Ports of Indiana, grantee of Foreign-Trade Zone 170, submitted an application to the Board (FTZ Docket 37-2011, filed 5/23/2011) for authority to expand the service area of the zone to include Jefferson, Ripley, Dearborn, Brown, Ohio and Switzerland Counties, as described in the application, adjacent to the Louisville, Kentucky; Cincinnati, Ohio; and Indianapolis, Indiana Customs and Border Protection ports of entry;

Whereas, notice inviting public comment was given in the Federal Register (76 FR 30906-30907, 5/27/11) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 170 to expand the service area under the alternative site framework is approved, subject to the FTZ Act and the Board's regulations, including Section 400.28, and to the Board's standard 2,000-acre activation limit for the overall general-purpose zone project.

Signed at Washington, DC, this 30th day of September 2011.
Ronald K. Lorentzen,
Deputy Assistant Secretary, for Import Administration, Alternate Chairman, Foreign-Trade Zones Board.

ATTEST: ________________________________
Andrew McGilvray,
Executive Secretary.

[FR Doc. 2011-26377 Filed 10-11-11; 8:45 am]

BILLING CODE P